ENVIRONMENTAL PROTECTION AGENCY

[ER-FRL-8989-2]

Environmental Impact Statements and Regulations; Availability of EPA Comments

Availability of EPA comments prepared pursuant to the Environmental Review Process (ERP), under section 309 of the Clean Air Act and Section 102(2)© of the National Environmental Policy Act as amended. Requests for copies of EPA comments can be directed to the Office of Federal Activities at 202-564-7146 or http://www.epa.gov/compliance/nepa/.

An explanation of the ratings assigned to draft environmental impact statements (EISs) was published in FR dated July 17, 2009 (74 FR 34754).

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html.

Including the entire EIS comment letters on the Web site satisfies the Section 309(a) requirement to make EPA's comments on EISs available to the public. Accordingly, after March 31, 2010, EPA will discontinue the publication of this notice of availability of EPA comments in the Federal Register.

Draft EISs

EIS No. 20090438, ERP No. D-NPS-C61013-NY, Roosevelt-Vanderbilt National Historic Sites, General Management Plan, Implementation, Hyde Park, NY.

Summary: EPA does not object to the proposed action. Rating LO.

EIS No. 20100016, ERP No. D-USN-K11127-CA, Silver Strand Training Complex (SSTC) Project, Proposed Naval Training Activities, Cities of Coronado and Imperial Beach, San Diego County, CA.

Summary: EPA expressed environmental concerns about impacts to water resources and biological resources, and the need for waste minimization. Rating EC2.

Final EISs

EIS No. 20100023, ERP No. F-AFS-K65367-00, Klamath National Forest Motorized Route Designation, Motorized Travel Management, (Formerly Motorized Route Designation), Implementation, Siskiyou County, CA and Jackson County, OR.

Summary: EPA expressed environmental concerns about the scope of the travel management planning process and season of use and wet weather closures, and recommended the action include current roads and trails with known impacts and a thorough evaluation of all impacts to water resources.

EIS No. 20100055, ERP No. F-NPS-K61170-CA, Yosemite National Park Project, Construction of Yosemite Institute Environment Education Campus, Implementation, Mariposa County, CA.

Summary: No formal comment letter was sent to the preparing agency.

Dated: March 16, 2010.
Robert W. Hargrove,
Director, NEPA Compliance Division, Office of Federal Activities.

[FR Doc. 2010-6078 Filed 3-18-10; 8:45 am]

BILLING CODE 6560-50-P